Proclamation 8757 of November 18, 2011

National Farm-City Week, 2011

By the President of the United States of America

A Proclamation

With tenacity, resilience, and humility, our farmers and ranchers have helped drive our Nation’s growth for generations. Season after season, their careful stewardship and dedication brings an abundance of wholesome food, plentiful fiber, a stronger economy, and new opportunities to secure our clean energy future. During National Farm-City Week, we celebrate the essential contributions of farmers and ranchers to our country’s well-being and recommit to a prosperous and sustainable future for American agriculture.

As our urban centers continue to grow, we look to our fields and ranches to supply our markets and families with fresh, healthy food. To help our farming communities meet the challenges of the 21st century, I established the White House Rural Council earlier this year. By partnering with leaders in rural America, we have worked to cultivate local and regional food systems, empower young and beginning farmers, and support rural businesses. Together, we stand with our rural communities and reaffirm our commitment to their continued success.

To make a lasting investment in our Nation’s energy future, my Administration is taking action to promote renewable energy production across rural America. As part of a comprehensive strategy to build our clean energy economy, we are working to produce more renewable, domestic biofuels and to help bring solar panel arrays and wind turbines to rural businesses. By finding new ways to harness homegrown fuels in small towns and on family farms, we can create new jobs, improve our energy security, and unlock additional sources of income for farmers.

This week, we honor the individuals, families, and communities who provide us the staple foods that sustain our Nation. As we gather with family and friends this Thanksgiving, let us pay tribute to the men and women whose hard work brought the bounty we find before us from farm to fork.

NOW, THEREFORE, I, BARACK OBAMA, President of the United States of America, by virtue of the authority vested in me by the Constitution and the laws of the United States, do hereby proclaim November 18 through November 24, 2011, as National Farm-City Week. I call upon all Americans to reflect on the vital contributions of those who dedicate their lives to promoting our Nation’s agricultural abundance and environmental stewardship.

IN WITNESS WHEREOF, I have hereunto set my hand this eighteenth day of November, in the year of our Lord two thousand eleven, and of the Independence of the United States of America the two hundred and thirty-sixth.

[FR Doc. 2011-30461

Filed 11-22-11; 11:15 am]

Billing code 3295-F2-P